DEPARTMENT OF STATE

[Public Notice: 8812]

In the Matter of the Review and Amendment of the Designation of Harakat ul-Mujahidin; aka Harakat ul-Mujahideen; aka Harakat ul-Ansar; aka Jamiat ul-Ansar; aka HUA; aka HUM; aka al-Hadid; aka al-Hadith; aka al-Faran; as a Foreign Terrorist Organization Pursuant to Section 219 of the Immigration and Nationality Act

Based upon a review of the Administrative Record assembled in this matter pursuant to Section 219(a)(4)(C) and (b) of the Immigration and Nationality Act, as amended (8 U.S.C. 1189(a)(4)(C), (b)) (“INA”), and in consultation with the Attorney General and the Secretary of the Treasury, the Secretary of State concludes that the circumstances that were the basis for the 2008 decision to maintain the designation of the aforementioned organization as a foreign terrorist organization have not changed in such a manner as to warrant revocation of the designation and that the national security of the United States does not warrant a revocation of the designation of Harakat ul-Mujahidin, and that there is a sufficient factual basis to find that Harakat ul-Mujahidin, also known under the aliases listed above, uses or has used additional aliases, namely, Ansar ul-Ummah.

Therefore, the Secretary of State hereby determines that the designation of the aforementioned organization as a foreign terrorist organization, pursuant to Section 219 of the INA (8 U.S.C. 1189), shall be maintained. In addition, effective upon the date of publication in the Federal Register, the Secretary of State hereby amends the 2008 review of Harakat ul-Mujahidin as a foreign terrorist organization, pursuant to § 219(b) of the INA (8 U.S.C. 1189(b)), to include the following new alias and other possible transliterations thereof:

Ansar ul-Ummah

Dated: July 23, 2014.
John F. Kerry,
Secretary of State.

[FR Doc. 2014-18802 Filed 8-7-14; 8:45 am]

BILLING CODE 4710-10-P